DEPARTMENT OF ENERGY

Federal Energy Regulatory Commission

Combined Notice of Filings #1

Take notice that the Commission received the following electric corporate filings:

Docket Numbers: EC18-64-000.

Applicants: Boston Energy Trading and Marketing LLC.

Description: Application of Boston Energy Trading and Marketing LLC for Approval Under Section 203 of the Federal Power Act and Request for Expedited Action.

Filed Date: 3/6/18.

Accession Number: 20180306-5152.

Comments Due: 5 p.m. ET 3/27/18.

Take notice that the Commission received the following electric rate filings:

Docket Numbers: ER10-3307-001.

Applicants: NRG Energy Center Dover LLC.

Description: Compliance filing: Informational Filing Regarding Upstream Change in Control to be effective N/A.

Filed Date: 3/7/18.

Accession Number: 20180307-5080.

Comments Due: 5 p.m. ET 3/28/18.

Docket Numbers: ER16-1250-004; ER10-2822-012; ER10-2824-001; ER10-2825-002; ER10-2831-002; ER10-2957-002; ER10-2995-002; ER10-2996-001; ER10-2998-001; ER10-2999-001; ER10-3000-001; ER10-3009-003; ER10-3013-002; ER10-3014-001; ER10-3029-001; ER11-2196-009; ER10-1776-001; ER17-1243-001; ER17-1769-002.

Applicants: Avangrid Renewables, LLC, Atlantic Renewable Projects II LLC, Big Horn Wind Project LLC, Big Horn II Wind Project LLC, Colorado Green Holdings LLC, Hay Canyon Wind LLC, Juniper Canyon Wind Power LLC, Klamath Energy LLC, Klamath Generation LLC, Klondike Wind Power LLC, Klondike Wind Power II LLC, Klondike Wind Power III LLC, Leaning Juniper Wind Power II LLC, Pebble Springs Wind LLC, San Luis Solar LLC, Solar Star Oregon II, LLC, Star Point Wind Project LLC, Twin Buttes Wind LLC, Twin Buttes Wind II LLC.

Description: Notice of Change in Status Regarding Generation-Only Balancing Authority Formation of Avangrid Renewables, LLC, et. al.

Filed Date: 3/5/18.

Accession Number: 20180305-5404.

Comments Due: 5 p.m. ET 3/26/18.

Docket Numbers: ER17-2290-003.

Applicants: Old Dominion Electric Cooperative.

Description: Compliance filing: Wildcat Point Revised Rate Schedule Compliance Filing to be effective 2/15/2018.

Filed Date: 3/7/18.

Accession Number: 20180307-5076.

Comments Due: 5 p.m. ET 3/28/18.

Docket Numbers: ER18-337-000.

Applicants: PacifiCorp.

Description: Report Filing: City of Hurricane Refund Report to be effective N/A.

Filed Date: 3/7/18.

Accession Number: 20180307-5044.

Comments Due: 5 p.m. ET 3/28/18.

Docket Numbers: ER18-971-000.

Applicants: Pacific Gas and Electric Company.

Description: § 205(d) Rate Filing: Amendment to Silicon Valley Power NRS and Los Esteros TFAs (SA 343) to be effective 8/1/2017.

Filed Date: 3/7/18.

Accession Number: 20180307-5000.

Comments Due: 5 p.m. ET 3/28/18.

Docket Numbers: ER18-974-000.

Applicants: NTE Carolinas, LLC.

Description: Baseline eTariff Filing: Baseline new to be effective 4/1/2018.

Filed Date: 3/7/18.

Accession Number: 20180307-5081.

Comments Due: 5 p.m. ET 3/28/18.

Docket Numbers: ER18-975-000.

Applicants: Arizona Public Service Company.

Description: § 205(d) Rate Filing: Revision to OATT Formula Transmission Rate to Update Tax Rate and Flow Back ADIT to be effective 5/7/2018.

Filed Date: 3/7/18.

Accession Number: 20180307-5098.

Comments Due: 5 p.m. ET 3/28/18.

Docket Numbers: ER18-976-000.

Applicants: Midcontinent Independent System Operator, Inc.

Description: § 205(d) Rate Filing: 2018-03-07_SA 3101 Summit Lake Wind-ATC GIA (J711) to be effective 2/21/2018.

Filed Date: 3/7/18.

Accession Number: 20180307-5107.

Comments Due: 5 p.m. ET 3/28/18.

Docket Numbers: ER18-977-000.

Applicants: Florida Power & Light Company.

Description: § 205(d) Rate Filing: FPL Revision to the Large Generator Interconnection Agreement to be effective 3/8/2018.

Filed Date: 3/7/18.

Accession Number: 20180307-5111.

Comments Due: 5 p.m. ET 3/28/18.

Docket Numbers: ER18-978-000.

Applicants: Florida Power & Light Company.

Description: § 205(d) Rate Filing: FPL Iguana Solar Large Generator Interconnection Agreement to be effective 3/8/2018 .

Filed Date: 3/7/18.

Accession Number: 20180307-5112.

Comments Due: 5 p.m. ET 3/28/18.

Docket Numbers: ER18-979-000.

Applicants: Midcontinent Independent System Operator, Inc.

Description: § 205(d) Rate Filing: 2018-03-07_SA 3102 UMERC-Summit Lake-ATC MPFCA (J704 J711) to be effective 2/21/2018.

Filed Date: 3/7/18.

Accession Number: 20180307-5113.

Comments Due: 5 p.m. ET 3/28/18.

Take notice that the Commission received the following qualifying facility filings:

Docket Numbers: QF17-987-000.

Applicants: North American BioFuels, LLC.

Description: Refund Report of North American BioFuels, LLC.

Filed Date: 3/5/18.

Accession Number: 20180305-5413.

Comments Due: 5 p.m. ET 3/26/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 7, 2018.
Nathaniel J. Davis, Sr.,
Deputy Secretary.

[FR Doc. 2018-04989 Filed 3-12-18; 8:45 am]

BILLING CODE 6717-01-P